DEPARTMENT OF ENERGY

Federal Energy Regulatory Commission

Combined Notice of Filings #1

Take notice that the Commission received the following exempt wholesale generator filings:

Docket Numbers: EG20-17-000.

Applicants: Skookumchuck Wind Energy Project, LLC.

Description: Notice of Self-Certification of Exempt Wholesale Generator Status.

Filed Date: 10/25/19.

Accession Number: 20191025-5169.

Comments Due: 5 p.m. ET 11/15/19.

Take notice that the Commission received the following electric rate filings:

Docket Numbers: ER20-204-000.

Applicants: Duke Energy Carolinas, LLC.

Description: § 205(d) Rate Filing: NCMPA1 RS No. 318 Amendment (2020) to be effective 1/1/2020.

Filed Date: 10/28/19.

Accession Number: 20191028-5017.

Comments Due: 5 p.m. ET 11/18/19.

Docket Numbers: ER20-205-000.

Applicants: Midcontinent Independent System Operator, Inc.

Description: § 205(d) Rate Filing: 2019-10-28_SA 3367 NSP-NSP-GRE-MRES-OTP-CMMP FCA (J460) to be effective 10/14/2019.

Filed Date: 10/28/19.

Accession Number: 20191028-5025.

Comments Due: 5 p.m. ET 11/18/19.

Docket Numbers: ER20-206-000.

Applicants: Gilroy Energy Center, LLC.

Description: Tariff Cancellation: Gilroy Energy Termination of Rate Schedule FERC No. 4 to be effective 12/31/2019.

Filed Date: 10/28/19.

Accession Number: 20191028-5048.

Comments Due: 5 p.m. ET 11/18/19.

Docket Numbers: ER20-208-000.

Applicants: Alabama Power Company.

Description: § 205(d) Rate Filing: Tri-State Solar Project LGIA Filing to be effective 10/17/2019.

Filed Date: 10/28/19.

Accession Number: 20191028-5065.

Comments Due: 5 p.m. ET 11/18/19.

Docket Numbers: ER20-209-000.

Applicants: San Diego Gas & Electric Company.

Description: Informational Filing of Transmission Owner Rate Appendix XII [Cycle 2] of San Diego Gas & Electric Company.

Filed Date: 10/28/19.

Accession Number: 20191028-5141.

Comments Due: 5 p.m. ET 11/18/19.

Take notice that the Commission received the following electric securities filings:

Docket Numbers: ES19-28-000.

Applicants: Entergy New Orleans, LLC.

Description: Supplement to April 30, 2019 Application under Section 204 of the Federal Power Act for Authorization to Issue Securities, et al. of Entergy New Orleans, LLC.

Filed Date: 10/25/19.

Accession Number: 20191025-5253.

Comments Due: 5 p.m. ET 10/30/19.

Take notice that the Commission received the following public utility holding company filings:

Docket Numbers: PH20-2-000.

Applicants: Valener Inc.

Description: Valener Inc. submits FERC 65-B Waiver Notification.

Filed Date: 10/25/19.

Accession Number: 20191025-5154.

Comments Due: 5 p.m. ET 11/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2019.
Nathaniel J. Davis, Sr.,
Deputy Secretary.

[FR Doc. 2019-23917 Filed 10-31-19; 8:45 am]

BILLING CODE 6717-01-P